NATIONAL AERONAUTICS AND SPACE ADMINISTRATION

14 CFR Part 1260

RIN 2700-AC75

NASA Grant and Cooperative Agreement Handbook—Public Acknowledgements

AGENCY: National Aeronautics and Space Administration.

ACTION: Final rule.

SUMMARY: This final rule amends the NASA Grant and Cooperative Agreement Handbook to include public acknowledgement of NASA's photographs and illustrations in reports or publications generated by NASA's award of grants or cooperative agreements.

EFFECTIVE DATE: December 2, 2003.

FOR FURTHER INFORMATION CONTACT: Paul Brundage, Code HK, (202) 358-0481, e-mail: paul.d.brundage@nasa.gov.

SUPPLEMENTARY INFORMATION:

A. Background

In publications generated from NASA's award of grants and cooperative agreements, principal investigators sometimes fail to acknowledge NASA's photographs and illustrations. This final rule sets forth NASA's desire for acknowledgement in 14 CFR 1260.22. NASA published a proposed rule in the Federal Register on August 15, 2003 (68 FR 48837). No comments were received. Therefore, the proposed rule is being adopted as final without change.

B. Regulatory Flexibility Act

NASA certifies that this final rule will not have a significant economic impact on a substantial number of small entities within the meaning of the Regulatory Flexibility Act, 5 U.S.C. 601 et seq., because (a) few grants and cooperative agreements under 14 CFR part 1260 are awarded to small businesses, (b) it will only affect the few recipients of awards that make use of NASA photographs and illustrations in their publications, and (c) this final rule has no economic impact on award recipients since it only requests acknowledgment of the source of photographs and illustrations in the recipients' publications.

C. Paperwork Reduction Act

The Paperwork Reduction Act does not apply because this rule does not impose any new recordkeeping or information collection requirements, or collection of information from offerors, contractors, or members of the public that require the approval of the Office of Management (OMB) and Budget under 44 U.S.C. 3501, et. seq.

List of Subjects in 14 CFR Part 1260

Grant Programs—Science and Technology.

Tom Luedtke,
Assistant Administrator for Procurement.

Accordingly, 14 CFR Part 1260 is amended as follows:

1. The authority citation for 14 CFR 1260 continues to read as follows:

Authority: 42 U.S.C. 2473(c)(1), Pub. L. 97-258, and 96 Stat. 1003 (31 U.S.C. 6301, et seq.).

PART 1260—GRANTS AND COOPERATIVE AGREEMENTS

2. Amend the provision at section 1260.22 by revising the date and adding paragraph (a)(3) to read as follows:

§ 1260.22 Technical publications and reports.

Technical Publications and Reports December 2003

(a) * * *

(3) As a courtesy, any release of a NASA photograph or illustration should list NASA first on the credit line followed by the name of the Principal Investigator's Institution. An example follows:

“Photograph <or illustration, figure, etc.> courtesy of NASA <or NASA Center managing the mission or program> and the <Principal Investigator's institution>.”

* * * * *

[End of provision]

[FR Doc. 03-29931 Filed 12-1-03; 8:45 am]

BILLING CODE 7510-01-P